DEPARTMENT OF HEALTH AND HUMAN SERVICES

Centers for Medicare and Medicaid Services

[CMS-3180-N2]

Food and Drug Administration

[Docket No. FDA-2010-N-0308]

Pilot Program for Parallel Review of Medical Products; Correction

AGENCY: Food and Drug Administration, Centers for Medicare and Medicaid Services, HHS.

ACTION: Notice; correction.

SUMMARY: The Food and Drug Administration (FDA) and the Centers for Medicare and Medicaid Services (CMS) are correcting a notice that appeared in the Federal Register of October 11, 2011 (76 FR 62808). The document announced a pilot program for sponsors of innovative device technologies to participate in a program of parallel FDA-CMS review. The document was published with an incorrect Web page address and an incorrect email address. This document corrects those errors.

FOR FURTHER INFORMATION CONTACT: Jean Olson, Center for Devices and Radiological Health, Food and Drug Administration, 10903 New Hampshire Ave., Bldg. 66, rm. 4434, Silver Spring, MD 20993-0002, 301-796-6579.

SUPPLEMENTARY INFORMATION: In FR Doc. 2011-25907, appearing on page 62808 in the Federal Register of Tuesday, October 11, 2011, the following corrections are made:

1. On page 62808, in the third column, under the heading “A. Parallel Review Proposal,” the Web site address “http://www.parallel-review.fda.gov” is corrected to read “http://www.fda.gov/parallel-review”.

2. On page 62809, in the second column, under the heading “B. Appropriate Candidates,” the e-mail address “parallel-review@fda.gov” is corrected to read “parallel-review@fda.hhs.gov”.

3. On page 62809, in the third column, under the heading “1. Nomination,” the Web site address “http://www.parallel-review.fda.gov” is corrected to read “http://www.fda.gov/parallel-review”.

Dated: October 17, 2011.
Jacquelyn Y. White,
Director, Office of Strategic Operations and Regulatory Affairs. Centers for Medicare & Medicaid Services.
Dated: October 19, 2011.
Leslie Kux,
Acting Assistant Commissioner for Policy, Food and Drug Administration.

[FR Doc. 2011-27694 Filed 10-25-11; 8:45 am]

BILLING CODE 4160-01-P